DEPARTMENT OF TRANSPORTATION

Office of the Secretary

Notice of Applications for Certificates of Public Convenience and Necessity and Foreign Air Carrier Permits Filed Under Subpart B (Formerly Subpart Q) During the Week Ending January 17, 2003

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2003-14296.

Date Filed: January 16, 2003.

Due Date for Answers, Conforming Applications, or Motion to Modify Scope: February 6, 2003.

Description: Application of Cayman Airways Limited (“CAL”), requesting an amendment of its foreign air carrier permit to authorize CAL to serve an additional U.S. point, Ft. Lauderdale, FL.

Andrea M. Jenkins,
Program Manager, Docket Operations, Federal Register Liaison.

[FR Doc. 04-4577 Filed 3-1-04; 8:45 am]

BILLING CODE 4910-62-P